DEPARTMENT OF TRANSPORTATION

Federal Aviation Administration

Civil Supersonic Aircraft Technical Workshop

AGENCY: Federal Aviation Administration (FAA), DOT.

ACTION: Notice of workshop.

SUMMARY: The FAA is issuing this notice to advise the public of a technical workshop on civil supersonic aircraft. This workshop will allow subject matter experts to discuss recent research data and findings which might impact future rulemaking on supersonic flight over land.

DATES: The workshop will be on November 13, 2003, from 8:30 a.m. to 5 p.m.

ADDRESSES: Workshop location: The workshop will be at Centra, 4121 Wilson Boulevard, Suite 800, Arlington, Virginia (one block from the Ballston metro shop).

Registration: Attendance is open to the interested public but space availability is limited. If you wish to attend the workshop, please register by faxing your name, address, phone number, e-mail, fax number, and organization to the contact person found in the FOR FURTHER INFORMATION CONTACT section.

FOR FURTHER INFORMATION CONTACT: Laurette Fisher, Office of Environment and Energy (AEE-100), Federal Aviation Administration, 800 Independence Avenue, SW., Washington, DC 20591; facsimile (202) 267-5594, telephone (202) 267-3561.

SUPPLEMENTARY INFORMATION: The Federal Aviation Administration (FAA) called for technical information on the latest research and development directed at mitigating the environmental impacts from supersonic aircraft by notice in the Federal Register (68 FR 28181, May 23, 2003). The comment period ended September 30, 2003. Also in the May 23 notice the FAA stated that it was planning to conduct a technical workshop in the next six months and the FAA will publish a notice announcing the date and place of the workshop. The May 23 notice is available at http://www.aee.faa.gov/noise/SST.htm.

This notice announces the date and place of the Civil Supersonic Aircraft Workshop. The purpose of the workshop is to allow subject matter experts to discuss recent research data and findings on mitigating the environmental impacts from supersonic aircraft. The workshop is scheduled to be on: Thursday, November 13, 2003, Centra, 4121 Wilson Boulevard, Suite 800, Arlington, Virginia.

You may submit a written statement at the workshop and it will be placed in Docket No. FAA-2003-15230. You may review the public docket containing comments to the May 23 notice and the workshop in person at the Docket Office between 9 a.m. and 5 p.m., Monday through Friday, except Federal holidays. The Docket Office is on the plaza level at the NASSIF Building at the U.S. Department of Transportation, Room Plaza 401, 400 Seventh Street, SW., Washington, DC 20590-0001. Information presented in a workshop setting is not considered proprietary.

Look for any updates on this workshop at http://www.aee.faa.gov/noise/SST.htm.

Issued in Washington, DC, on October 6, 2003.
Carl Burleson,
Director of Environment and Energy.

[FR Doc. 03-25952 Filed 10-10-03; 8:45 am]

BILLING CODE 4910-13-M